DEPARTMENT OF DEFENSE

Office of the Secretary

[Docket ID: DoD-2014-OS-0157]

Proposed Collection; Comment Request

AGENCY: Defense Media Activity, DoD.

ACTION: Notice.

SUMMARY: In compliance with the Paperwork Reduction Act of 1995, the Defense Media Activity announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 9, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Media Activity, American Forces Network-Broadcast Center, 23755 Z Street, Riverside, CA 92518, or call 951-413-2569.

SUPPLEMENTARY INFORMATION: Title; Associated Form; and OMB Number: AFNConnect (AFNC); OMB Control Number 0704-TBD.

Needs and Uses: The information collection requirement is necessary to obtain and audit the eligibility of DoD Employees, DoD contractors, Department of State (DoS) employees, military personnel (including retirees and active reservists) and their family members OCONUS to receive restricted American Forces Radio and Television Service (AFRTS) programming services (i.e., radio, television, and web streaming services). Demographic data will also be collected to ensure DMA provides its services in the most efficient and cost effective manner.

Affected Public: Individuals or households

Annual Burden Hours: 1,667

Number of Respondents: 10,000

Responses Per Respondent: 1

Average Burden Per Response: 10 minutes

Frequency: On occasion

The American Forces Network (AFN) is a broadcast service of the Defense Media Activity (DMA). AFN provides an internal information program to provide U.S. radio and television news, information, and entertainment programming to Military Service members, DoD civilian and contract employees, and their families overseas, on board U.S. Navy and Coast Guard ships at sea, and other authorized users. This DoD internal information program (1) provides U.S. military commanders worldwide with a unique means to communicate internal information directly to DoD personnel and their family members overseas; (2) provides overseas DoD personnel and their families the same type of information and entertainment programming as their fellow citizens in the United States; (3) assists in maintaining and enhancing the morale, readiness, situational awareness, and well-being of DoD personnel and their family members overseas. AFN communicates messages and themes from senior DoD leaders (i.e., Secretary of Defense, Secretaries of the Military Departments, Chairman of the Joint Chiefs of Staff, Military Service Chiefs of Staff, Combatant Commanders), as well as other leaders in the chain of command, in order to support and improve quality of life and morale, promote situational awareness, provide timely and immediate force protection information, and sustain readiness.

Much of the content distributed by AFN is commercial programming whose distribution is restricted to targeted OCONUS audiences. The AFNConnect system is an automated system which will allow potential consumers of AFN content to quickly validate their location and status, and be automatically authorized to receive AFN programming.

Dated: December 3, 2014.
Aaron Siegel,
Alternate OSD Federal Register Liaison Officer, Department of Defense.

[FR Doc. 2014-28731 Filed 12-8-14; 8:45 am]

BILLING CODE 5001-06-P